DEPARTMENT OF THE TREASURY

Office of Foreign Assets Control

Unblocking of One Entity and One Individual Pursuant to Executive Order 13219, as Amended

AGENCY: Office of Foreign Assets Control, Treasury.

ACTION: Notice.

SUMMARY: The U.S. Department of the Treasury's Office of Foreign Assets Control (OFAC) is publishing the name of one entity and one individual whose property and interests in property are being unblocked pursuant to Executive Order (E.O.) 13219 of June 26, 2001, as amended by E.O. 13304 of May 28, 2003.

DATES: The unblocking of property and interests in property and the removal of the entity and individual identified in this Notice from the List of Specially Designated Nationals and Blocked Persons (SDN List) is effective on June 11, 2015.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

The SDN List and additional information concerning OFAC sanctions programs are available on OFAC's Web site (www.treasury.gov/ofac). Certain general information pertaining to OFAC's sanctions programs is also available via facsimile through a 24-hour fax-on-demand service, tel.: 202/622-0077.

Notice of OFAC Actions

OFAC, in consultation with the Department of State, has determined that circumstances no longer warrant inclusion of the following entity in the Annex to E.O. 13219, as amended by E.O. 13304, and on OFAC's SDN List, and that this entity will no longer be covered within the scope of the sanctions set forth in E.O. 13219, as amended by E.O. 13304:

Entity: PRIVREDNA BANKA SARAJEVO AD (a.k.a. PRIVREDNA BANKA AD SRPSKO SARAJEVO), Str Srpskih Ratnika br 14, 71420 Pale, Republika Srpska, Bosnia and Herzegovina; Dobroslava Jedevica 14, 71000 Pale, Republika Srpska, Bosnia and Herzegovina; Kralja Nikole Str 65, Srbinje/Foca, Republika Srpska, Bosnia and Herzegovina; Ljube Milanovica Str 12, Trebinje, Republika Srpska, Bosnia and Herzegovina; Filipa Kljajica Str 6, Zvornik, Republika Srpska, Bosnia and Herzegovina; 9/11 Str Zagrebacka, Belgrade 11000, Serbia; SWIFT/BIC PRSS BA 22 [BALKANS].

OFAC, in consultation with the Department of State, has determined that circumstances no longer warrant inclusion of the following individual on OFAC's SDN List and that this individual will no longer be covered within the scope of the sanctions set forth in E.O. 13219, as amended by E.O. 13304:

Individual: VRACAR, Milenko, Bosnia and Herzegovina; DOB 15 May 1956; POB Nisavici, Prijedor, Bosnia-Herzegovina (individual) [BALKANS].

The removal of the entity and individual listed above from the SDN List is effective as of June 11, 2015. All property and interests in property of these persons that are in or hereafter come within the United States or the possession or control of a United States person are no longer blocked pursuant to E.O. 13219, as amended by E.O. 13304.

Dated: June 4, 2015.
John E. Smith,
Acting Director, Office of Foreign Assets Control.

[FR Doc. 2015-14178 Filed 6-10-15; 8:45 am]

BILLING CODE 4810-AL-P